DEPARTMENT OF ENERGY

Federal Energy Regulatory Commission

Combined Notice of Filings #1

Take notice that the Commission received the following electric corporate filings:

Docket Numbers: EC17-175-000.

Applicants: Caney River Wind Project, LLC, Rocky Ridge Wind Project, LLC.

Description: Joint Application for Authorization under Section 203 for the Disposition of Jurisdictional Facilities, Request for Expedited Consideration and Confidential Treatment of Caney River Wind Project, LLC, et al.

Filed Date: 9/8/17.

Accession Number: 20170908-5162.

Comments Due: 5 p.m. ET 9/29/17.

Take notice that the Commission received the following electric rate filings:

Docket Numbers: ER17-2036-001.

Applicants: Florida Power & Light Company.

Description: Tariff Amendment: FPL Response to Deficiency Letter and Request for Shortened Comment Period to be effective 10/31/2017.

Filed Date: 9/11/17.

Accession Number: 20170911-5016.

Comments Due: 5 p.m. ET 10/2/17.

Docket Numbers: ER17-2453-000.

Applicants: Imperial Valley Solar 3, LLC.

Description: Baseline eTariff Filing: Imperial Valley Solar 3, LLC MBR Tariff to be effective 9/9/2017.

Filed Date: 9/8/17.

Accession Number: 20170908-5160.

Comments Due: 5 p.m. ET 9/29/17.

Docket Numbers: ER17-2454-000.

Applicants: Southwest Power Pool, Inc.

Description: § 205(d) Rate Filing: 1518R13 Arkansas Electric Cooperative Corp NITSA NOA to be effective 9/1/2017.

Filed Date: 9/11/17.

Accession Number: 20170911-5021.

Comments Due: 5 p.m. ET 10/2/17.

Docket Numbers: ER17-2455-000.

Applicants: Southwestern Public Service Company.

Description: § 205(d) Rate Filing: SPS-WILD-E&P Agrmt-697-0.0.0 to be effective 9/12/2017.

Filed Date: 9/11/17.

Accession Number: 20170911-5022.

Comments Due: 5 p.m. ET 10/2/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 11, 2017.
Nathaniel J. Davis, Sr.,
Deputy Secretary.

[FR Doc. 2017-19726 Filed 9-15-17; 8:45 am]

BILLING CODE 6717-01-P